DEPARTMENT OF AGRICULTURE

Forest Service

Hood/Willamette Resource Advisory Committee Meeting

AGENCY: Forest Service, USDA.

ACTION: Notice of meeting.

SUMMARY: The Hood/Willamette Resource Advisory Committee (RAC) will meet in Sandy, Oregon. The Committee is authorized under the Secure Rural Schools and Community Self-Determination Act (the Act) (Pub. L. 110-343) and operates in compliance with the Federal Advisory Committee Act of 1972 (5 U.S.C. App 2). The purpose of the Committee is to improve collaborative relationships and to provide advice and recommendations to the Forest Service concerning projects and funding consistent with the Title II of the Act. The meeting is open to the public. Additional information concerning the Committee, can be found by visiting the Committee's Web site at: https://fsplaces.fs.fed.us/fsfiles/unit/wo/secure_rural_schools.nsf.

DATES: The meeting will be held September 30, 2014 at 10:00 a.m.

All RAC meetings are subject to cancellation. For status of meeting prior to attendance, please contact the person listed under FOR FURTHER INFORMATION CONTACT.

ADDRESSES: The meeting will be held at Mt. Hood National Forest Headquarters Office, 16400 Champion Way, Sandy, Oregon. Written comments may be submitted as described under SUPPLEMENTARY INFORMATION. All comments, including names and addresses when provided, are placed in the record and are available for public inspection and copying. The public may inspect comments received at the Mt. Hood National Forest Headquarters Office. Please call ahead for directions and to facilitate entry into the building.

FOR FURTHER INFORMATION CONTACT: Connie Athman, Designated Federal Offical, by phone at (503) 668-1672 or via email at cathman@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to experience a field trip review of projects authorized under Title II of the Act.

The agenda will include time for people to make oral statements of three minutes or less. Individuals wishing to make an oral statement should request in writing within 7 days of the meeting to be scheduled on the agenda. Anyone who would like to bring related matters to the attention of the Committee may file written statements with the Committee staff before or after the meeting. Written comments and time requests for oral comments must be sent to Connie Athman, Mt. Hood National Forest, 16400 Champion Way, Sandy, Oregon 97055; by email to cathman@fs.fed.us, or via facsimile to (503) 668-1413. Summary/minutes of the meeting will be posted on the Web site listed above within 45 days after the meeting.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: August 25, 2014.
Sharon Wallace,
Acting Forest Supervisor.

[FR Doc. 2014-20899 Filed 9-2-14; 8:45 am]

BILLING CODE 3411-15-P